DEPARTMENT OF THE INTERIOR

Bureau of Land Management

[CA920-1310-EI: CACA 28211]

California: Notice of Proposed Reinstatement of Terminated Oil and Gas Lease

Under the provisions of Public law 97-451, a petition for reinstatement of oil and gas lease CACA 28211 for lands in Kern County, California, was timely filed and was accompanied by all the required rentals and royalties accruing from November 1, 1999, the date of termination.

No valid lease has been issued affecting the lands. The lessee has agreed to amend lease terms for rentals and royalties at the rate of $5.00 per acre, or fraction thereof, per year and 16⅔ percent, respectively. The lessee has paid the required $500 administrative fee and $125 to reimburse the Department for the cost of this Federal Register notice.

The lessee has met all the requirements for reinstatement of the lease as set out in sections 31 (d) and (e) of the Mineral Lands Leasing Act of 1920 (30 U.S.C. 188), and the Bureau of Land Management is proposing to reinstate lease CACA 28211 effective November 1, 1999, subject to the original terms and conditions of the lease and the increased rental and royalty rates cited above.

FOR FURTHER INFORMATION CONTACT: Bonnie Edgerly, Land Law Examiner, California State Office (916) 978-4370.

Dated: July 27, 2000.
Modesto Tamondong,
Acting Chief, Branch of Energy, Mineral Science, and Adjudication.

[FR Doc. 00-19957 Filed 8-7-00; 8:45 am]

BILLING CODE 4310-40-M